DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of August 17, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: April 11, 2016.
Roy E. Wright,
Deputy Associate Administrator for Insurance and Mitigation, Department of Homeland Security, Federal Emergency Management Agency.

I. Watershed-based studies:

Community | Community map repository address
Middle Coosa Watershed
St. Clair County, Alabama, and Incorporated Areas Docket No.: FEMA-B-1515
City of Argo | City Hall, 100 Blackjack Road, Argo, AL 35173.
City of Ashville | City Hall, 211 Eighth Street, Ashville, AL 35953.
City of Margaret | City Hall, 125 School Street, Margaret, AL 35112.
City of Moody | City Hall, 670 Park Avenue, Moody, AL 35004.
City of Odenville | City Hall, 183 Alabama Street, Odenville, AL 35120.
City of Pell City | City Hall, 1905 First Avenue North, Pell City, AL 35125.
City of Riverside | City Hall, 379 Depot Street, Riverside, AL 35135.
City of Springville | City Hall, 6327 U.S. Highway 11, Springville, AL 35146.
City of Trussville | City Hall, 131 Main Street, Trussville, AL 35173.
Town of Ragland | Town Hall, 220 Fredia Street, Suite 102, Ragland, AL 35131.
Town of Steele | Town Hall, 4025 Pope Avenue, Steele, AL 35987.
Unincorporated Areas of St. Clair County | St. Clair County Road Department, 31588 Highway 231, Ashville, AL 35953.

II. Non-watershed-based studies:

Community | Community map repository address
Lee County, Illinois, and Incorporated Areas Docket No.: FEMA-B-1511
City of Dixon | City Hall, Building and Zoning Office, 121 West Second Street, Dixon, IL 61021.
City of Rochelle | City Hall, 420 North Sixth Street, Rochelle, IL 61068.
Unincorporated Areas of Lee County | County Zoning Office, 112 East Second Street, Dixon, IL 61021.
Village of Nelson | Village Hall, 202 South Butler Street, Nelson, IL 61021.
Ogle County, Illinois, and Incorporated Areas Docket No.: FEMA-B-1511
City of Byron | City Hall, 232 West Second Street, Byron, IL 61010.
City of Oregon | City Hall, 115 North Third Street, Oregon, IL 61061.
City of Rochelle | City Hall, 420 North Sixth Street, Rochelle, IL 61068.
Unincorporated Areas of Ogle County | Ogle County Planning & Zoning Department, 911 West Pines Road, Oregon, IL 61061.
Village of Hillcrest | Village Hall, 204 Hillcrest Avenue, Rochelle, IL 61068.
Camden County, New Jersey Docket No.: FEMA-B-1520
Borough of Audubon | Borough Hall, 606 West Nicholson Road, Audubon, NJ 08106.
Borough of Audubon Park | Community Hall, 20 Road C, Audubon Park, NJ 08106.
Borough of Bellmawr | Municipal Building, 21 East Browning Road, Bellmawr, 08031.
Borough of Brooklawn | Borough Hall, 301 Christiana Street, Brooklawn, NJ 08030.
Borough of Collingswood | Borough Hall, 678 Haddon Avenue, Collingswood, NJ 08108.
Borough of Mount Ephraim | Tax Office, 121 South Black Horse Pike, Mount Ephraim, NJ 08059.
Borough of Oaklyn | Borough Hall, 500 White Horse Pike, Oaklyn, NJ 08107.
Borough of Runnemede | Borough Hall, 24 North Black Horse Pike, Runnemede NJ 08078.
Borough of Woodlynne | Municipal Building, 200 Cooper Avenue, Woodlynne, NJ 08107.
City of Camden | Planning Department, 520 Market Street, Suite 224, Camden, NJ 08101.
City of Gloucester | Municipal Building, 512 Mommoth Street, Gloucester City, NJ 08030.
Township of Gloucester | Municipal Building, 1261 Chews Landing Road, Laurel Springs, NJ 08021.
Township of Haddon | Annex Building, 10 Reeve Avenue, Haddon Township NJ 08108.
Township of Pennsauken | Municipal Building, 5605 North Crescent Boulevard, Pennsauken, NJ 08110.
Gloucester County, New Jersey Docket No.: FEMA-B-1520
Borough of National Park | Borough Hall, 7 South Grove Avenue, National Park, NJ 08063.
Borough of Paulsboro | Administration Building, 1211 North Delaware Street, Paulsboro, NJ 08066.
Borough of Swedesboro | Borough Hall, 1500 Kings Highway, Swedesboro, NJ 08085.
Borough of Wenonah | 1 South West Avenue, Wenonah, NJ 08090.
Borough of Westville | 165 Broadway, Westville, NJ 08093.
City of Woodbury | City Hall, 33 Delaware Street, Woodbury, NJ 08096.
Township of Deptford | Municipal Building, 1011 Cooper Street, Deptford, NJ 08096.
Township of East Greenwich | East Greenwich Township Municipal Building, 159 Democrat Road, Mickleton, NJ 08056.
Township of Greenwich | Greenwich Township Construction and Zoning Office, 403 West Broad Street, Gibbstown, NJ 08027.
Township of Logan | 125 Main Street, Bridgeport, NJ 08014.
Township Mantua | Municipal Building, 401 Main Street, Mantua, NJ 08051.
Township of West Deptford | 400 Crown Point Road, West Deptford, NJ 08086.
Township of Woolwich | 121 Woodstown Road, Swedesboro, NJ 08085.
Mingo County, West Virginia, and Incorporated Areas Docket No.: FEMA-B-1466
City of Williamson | City Hall, 107 East 4th Avenue, Williamson, WV 25661.
Town of Kermit | City Hall, 101 Main Street, Kermit, WV 25674.
Town of Matewan | Town Hall, 306 McCoy Alley, Matewan, WV 25678.
Unincorporated Areas of Mingo County | Mingo County Floodplain Management Office, 75 East 2nd Avenue, Room 328, Williamson, WV 25661.

[FR Doc. 2016-09468 Filed 4-22-16; 8:45 am]

BILLING CODE 9110-12-P